DEPARTMENT OF THE INTERIOR

National Park Service

[N6405; NPS-WASO-NAGPRA-NPS0040777; PPWOCRADN0-PCU00RP14.R50000]

Notice of Inventory Completion: Trinity University, San Antonio, TX; University of Texas at Austin, Texas Archeological Research Laboratory, Austin, TX; and University of Texas at Austin, Vertebrate Paleontology Laboratory, Austin, TX

AGENCY: National Park Service, Interior.

ACTION: Notice.

SUMMARY: In accordance with the Native American Graves Protection and Repatriation Act (NAGPRA), Trinity University (Trinity); University of Texas at Austin, Texas Archeological Research Laboratory (TARL); and and University of Texas at Austin, Vertebrate Paleontology Laboratory (VPL) have completed an inventory of human remains and associated funerary objects and have determined that there is a cultural affiliation between the human remains and associated funerary objects and Indian Tribes or Native Hawaiian organizations in this notice.

DATES: Repatriation of the human remains and associated funerary objects in this notice may occur on or after September 4, 2025.

ADDRESSES: Send written requests for repatriation of the human remains and associated funerary objects in this notice to Maggie Moore, Trinity University, Department of Sociology and Anthropology, 1 Trinity Place, San Antonio, TX 78212-7200, email mmoore3@trinity.edu; Jessica Ulmer, The University of Texas at Austin Texas Archaeological Research Laboratory, 1 University Station, R7500, Austin, TX 78712, email jessica.ulmer@austin.utexas.edu; and Chris Sagebiel, The University of Texas at Austin Vertebrate Paleontology Laboratory, J.J. Pickle Research Campus, The University of Texas, 3333 Read Granberry Trl. (VPL, bldg. 6), Austin, TX 78758, email sagebiel@austin.utexas.edu.

SUPPLEMENTARY INFORMATION: This notice is published as part of the National Park Service's administrative responsibilities under NAGPRA. The determinations in this notice are the sole responsibility of Trinity, TARL, and VPL, and additional information on the determinations in this notice, including the results of consultation, can be found in its inventory or related records. The National Park Service is not responsible for the determinations in this notice.

Abstract of Information Available

Human remains representing, at least, 24 individuals have been identified. The 7,047 associated funerary objects are faunal remains. In 1965-1968, Native American human remains and associated funerary objects were removed from site 41BX26 in Bexar County, Texas. By various circumstances, these human remains and associated funerary objects came to be split between Trinity, TARL, VPL, California State University, Dominguez Hills, Our Lady of the Lake University in San Antonio, and University of Texas at San Antonio Center for Archaeological Research. Many of the human remains have been labeled with ink, and shellac or other preservative was used on some remains.

Cultural Affiliation

Based on the information available and the results of consultation, cultural affiliation is reasonably identified by the geographical location or acquisition history of the human remains and associated funerary objects described in this notice.

Determinations

Trinity, TARL, and VPL have determined that:

• The human remains described in this notice represent the physical remains of 24 individuals of Native American ancestry.

• The 7,047 objects described in this notice are reasonably believed to have been placed intentionally with or near individual human remains at the time of death or later as part of the death rite or ceremony.

• There is a connection between the human remains and associated funerary objects described in this notice and the Absentee-Shawnee Tribe of Indians of Oklahoma; Kickapoo Traditional Tribe of Texas; Mescalero Apache Tribe of the Mescalero Reservation, New Mexico; Shawnee Tribe; The Seminole Nation of Oklahoma; Thlopthlocco Tribal Town; and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 4, 2025. If competing requests for repatriation are received, Trinity, TARL, and VPL must determine the most appropriate requestor prior to repatriation. Requests for joint repatriation of the human remains and associated funerary objects are considered a single request and not competing requests. Trinity, TARL, and VPL are responsible for sending a copy of this notice to the Indian Tribes and Native Hawaiian organizations identified in this notice and any other consulting parties.

Authority: Native American Graves Protection and Repatriation Act, 25 U.S.C. 3003, and the implementing regulations, 43 CFR 10.10.

Dated: July 28, 2025.
Melanie O'Brien,
Manager, National NAGPRA Program.

[FR Doc. 2025-14804 Filed 8-4-25; 8:45 am]

BILLING CODE 4312-52-P